DEPARTMENT OF ENERGY

Federal Energy Regulatory Commission

[Docket No. RP07-36-000]

Dominion Cove Point LNG, LP Notice of Tariff Filing

November 14, 2006.

Take notice that on October 27, 2006, Dominion Cove Point LNG, LP (Dominion Cove Point) tendered for filing as part of its FERC Gas Tariff, Original Volume No. 1, the following tariff sheets, to become effective on the date that Dominion Cove Point places in-service its Vaporizer Reactivation Project certificated in Docket No. CP05-395-000:

Pro Forma Sheet No. 1

Pro Forma Sheet No. 7

Pro Forma Sheet No. 8

Pro Forma Sheet No. 10

Pro Forma Sheet No.11

Pro Forma Sheet No. 20

Pro Forma Sheet No. 22

Pro Forma Sheet No. 23

Pro Forma Sheet No. 23A

Pro Forma Sheet No. 27

Pro Forma Sheet No. 120

Pro Forma Sheet No. 121

Pro Forma Sheet No. 122

Pro Forma Sheet No. 123

Pro Forma Sheet No. 124

Pro Forma Sheet No. 203

Pro Forma Sheet No. 204

Pro Forma Sheet No. 205

Pro Forma Sheet No. 206

Pro Forma Sheet No. 230

Pro Forma Sheet No. 256

Pro Forma Sheet No. 256A

Pro Forma Sheet No. 257

Pro Forma Sheet No. 261

Pro Forma Sheet No. 400

Pro Forma Sheet No. 450

Pro Forma Sheet No. 472

Pro Forma Sheet No. 475

Pro Forma Sheet No. 490

Pro Forma Sheet No. 492

Pro Forma Sheet Nos. 518-549

Pro Forma Sheet No. 550

Pro Forma Sheet No. 551

Pro Forma Sheet No. 552

Pro Forma Sheet Nos. 553-999

Dominion Cove Point's pro forma tariff sheets listed above establish rates and terms of service for the new incremental services associated with Vaporizer Reactivation Project: the Incremental Send-Out Quantities to be added to Rate Schedule LTD-1 and the new off-peak firm transportation service, Rate Schedule OTS.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-19699 Filed 11-21-06; 8:45 am]

BILLING CODE 6717-01-P